DEPARTMENT OF HOUSING AND URBAN DEVELOPMENT

[Docket No. FR-4910-N-16]

Notice of Proposed Information Collection for Public Comment; Housing Agency (HA) Calculation of Occupancy Percentage for Requested Budget Year (RBY), PHA-Owned Rental Housing Performance Funding System (PFS)

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: September 13, 2004.

ADDRESSES: Interested persons are invited to submit comments regarding this proposal. Comments should refer to the proposal by name/or OMB Control number and should be sent to: Sherry Fobear McCown, Reports Liaison Officer, Public and Indian Housing, Department of Housing and Urban Development, 451 7th Street, SW., Room 4116, Washington, DC 20410-5000.

FOR FURTHER INFORMATION CONTACT: Sherry Fobear McCown, (202) 708-0713, extension 7651, for copies of the proposed forms and other available documents. (This is not a toll-free number).

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Housing Agency (HA) Calculation of Occupancy Percentage for a Requested Budget Year (RPY), PHA-Owned Rental Housing, Performance Funding System.

OMB Control Number: 2577-0066.

Description of the need for the information and proposed use: HUD uses a formula approach called the Performance Funding System (PFS) to distribute operating subsidies to housing agencies (HAs). This form provides structured format for HAs to use in developing an appropriate and justifiable projection of occupancy and to report various types of vacant units and, in particular, units that are vacant for circumstances and reasons beyond the control of the HA. The projected occupancy percentage that is developed and reported on this form is then used as one element in the Department's calculation of the HA's operating subsidy under the PFS. This information also is included in the HA's PFS operating subsidy submissions that are reviewed and approved by HUD and serve as the basis for obligating operating subsidies.

Agency form number: HUD-52728.

Members of affected public: Public Housing Agencies.

Estimation of the total number of hours needed to prepare the information collection including number of respondents: 3100 respondents annually, 2 hours average response, 6,200 hours total reporting burden hours.

Status of the proposed information collection: Extension of currently approved collection.

Authority: Section 3506 of the Paperwork Reduction Act of 1995, 44 U.S.C. chapter 35, as amended.

Dated: July 1, 2004.
Michael Liu,
Assistant Secretary for Public and Indian Housing.

[FR Doc. 04-15852 Filed 7-12-04; 8:45 am]

BILLING CODE 4210-33-P